ELECTION ASSISTANCE COMMISSION

Sunshine Act Meetings

AGENCY: U.S. Election Assistance Commission.

ACTION: Sunshine Act notice; notice of public roundtable agenda.

SUMMARY: Election Official Security: Response, Preparation & Available Resources.

DATES: Wednesday, December 8, 2021, 12:00 p.m.-2:00 p.m. Eastern.

ADDRESSES: Virtual via Zoom.

The panel discussion is open to the public and will be livestreamed on the U.S. Election Assistance Commission YouTube Channel: https://www.youtube.com/channel/UCpN6i0g2rlF4ITWhwvBwwZw.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b), the U.S. Election Assistance Commission (EAC) will conduct a virtual panel discussion with election officials who have dealt with threats and representatives from state and federal partners who offer resources to respond and prevent threats facing election officials, staff, and poll workers as they administer elections.

Agenda: The U.S. Election Assistance Commission (EAC) will hold a panel discussion with several current and former election officials who received threats related to the 2020 election and learn more about how they responded, how they are preparing for the upcoming midterm election year, and what resources they need to keep their staff and offices safe. The second panel for this event will consist of state and federal partners of the election official community, including representation from law enforcement agencies. This panel will discuss their efforts to provide additional security resources for election officials, best practices for evidence gathering and responding to threatening messages, and legal consideration for any election official who may face this sort of harassment in the future.

The full agenda will be posted in advance on the EAC website: https://www.eac.gov.

Status: This roundtable discussion will be open to the public.

Kevin Rayburn,
General Counsel, U.S. Election Assistance Commission.

[FR Doc. 2021-25856 Filed 11-23-21; 11:15 am]

BILLING CODE 6820-KF-P